DEPARTMENT OF HEALTH AND HUMAN SERVICES

Administration for Children and Families

Agency Recordkeeping/Reporting Requirements Under Emergency Review by the Office of Management and Budget (OMB)

Title: ORR Quarterly Performance Report, ORR-6.

OMB No.: 0970-0036.

Description: We ask for the information on this form in order to determine the effectiveness of the state cash and medical assistance, social services, and targeted assistance programs as required by 412(e) of the Immigration and Naturalization Act. We also calculate state-by-state Refugee Cash Assistance and Refugee Medical Assistance utilization rates for use in formulating program initiatives, priorities, standards, budget requests, and assistance policies. The Office of Refugee Resettlement regulations require that this form be completed in order to participate in the program.

Respondents: States.

Annual Burden Estimates
Instrument | Number of respondents | Number of responses per respondent | Average burden hours per response | Total burden hours
ORR-6 | 48 | 4 | 3.875 | 744

Estimated Total Annual Burden Hours: 744 hours.

Additional Information: The Administration for Children and Families (ACF) is requesting that OMB grant a 180-day approval for this information collection under procedures for emergency processing by March 5, 2004. A copy of this information collection, with applicable supporting documentation, may be obtained by calling the ACF Reports Clearance Officer, Robert Sargis at (202) 690-7275. In addition, a request may be made by sending an e-mail request to: rsargis@acf.hhs.gov.

Comments and questions about the information collection described above should be directed to the following address by March 5, 2004: Office of Information and Regulatory Affairs, Attn: OMB Desk Officer for ACF, Office of Management and Budget, Paperwork Reduction Project, Washington, DC. E-mail address: katherine_t._astrich@omb.eop.gov.

Dated: February 26, 2004.
Robert Sargis,
Reports Clearance Officer.

[FR Doc. 04-4753 Filed 3-2-04; 8:45 am]

BILLING CODE 4184-01-M